DEPARTMENT OF COMMERCE

International Trade Administration

[A-421-807]

Certain Hot-Rolled Carbon Steel Flat Products from the Netherlands; Antidumping Duty Administrative Review; Extension of Time Limit

AGENCY: Import Administration, International Trade Administration, Department of Commerce.

SUMMARY: The Department of Commerce (the Department) is extending the time limit for the final results of the 2004-2005 administrative review of the antidumping duty order on certain hot-rolled carbon steel flat products from the Netherlands. This review covers one manufacturer/exporter of the subject merchandise to the United States and the period November 1, 2004, through October 31, 2005.

EFFECTIVE DATE: March 23, 2007.

FOR FURTHER INFORMATION CONTACT: David Cordell or Robert James Antidumping and CVD Operations, Office 7 Import Administration, International Trade Administration, U.S. Department of Commerce, 14th Street and Constitution Avenue NW., Washington, DC 20230; telephone: (202) 482-0408 or (202) 482-0649, respectively.

SUPPLEMENTARY INFORMATION:

Background

On December 11, 2006, we published the preliminary results of the administrative review of the antidumping duty order on certain hot-rolled carbon steel flat products from the Netherlands for the period November 1, 2004, through October 31, 2005. See Certain Hot-Rolled Carbon Steel Flat Products from the Netherlands; Preliminary Results of Antidumping Duty Administrative Review, 71 FR 71523 (December 11, 2006).

Extension of Time Limit for Final Results

Pursuant to section 751(a)(3)(A) of the Tariff Act of 1930, as amended (“the Act”) and 19 CFR 351.213(h)(i), the Department shall issue final results in an administrative review of an antidumping duty order within 120 days after the date on which the preliminary results is published in the Federal Register. The Department, however, may extend the deadline for completion of the final results of a review if it determines it is not practicable to complete the final results within the statutory time limit. See section 751(a)(3)(A) of the Tariff Act and section 351.213(h)(2) of the Department's regulations.

In this case, the Department has determined that it is not practicable to complete this review within the statutory time limit because of significant issues which require additional time to evaluate. These include issues related to the cost of production (e.g., cost of manufacture and general and administrative expenses) as well as questions concerning simplified reporting and CEP and EP classification of sales. Therefore, the Department is extending the time limit for completion of the final results by 35 days until May 15, 2007 in accordance with section 751(a)(3)(A) of the Tariff Act.

Dated: March 19, 2007.
Stephen J. Claeys,
Deputy Assistant Secretary for Import Administration.

[FR Doc. E7-5406 Filed 3-22-07; 8:45 am]

BILLING CODE 3510-DS-S